DEPARTMENT OF TRANSPORTATION

Office of the Secretary

[Docket No. OST-2005-20331]

RIN 2105-AD48

Notice of Information Collection Approval

AGENCY: Office of the Secretary, Department of Transportation (DOT).

ACTION: Notice of information collection approval.

SUMMARY: This notice announces the Office of Management and Budget (OMB) approval of the information collection request (ICR) OMB No. 2105-0552, “Reports by Carriers on Incidents Involving Animals During Air Transport” and provides a specific compliance date of Wednesday, June 15, 2005, for carriers to begin submitting monthly reports to the Department of Transportation's Aviation Consumer Protection Division (ACPD) on incidents involving the loss, injury, or death of an animal during air transport.

DATES: The expiration date for the ICR is March 31, 2008.

FOR FURTHER INFORMATION CONTACT: Blane A. Workie, Office of the General Counsel, 400 7th Street, SW., Room 4116, Washington, DC 20590, (202) 366-9342 (voice), (202) 366-7152 (Fax) or blane.workie@dot.gov (e-mail). Arrangements to obtain the notice in an alternative format may be made by contacting the above-named individuals.

SUPPLEMENTARY INFORMATION: On February 14, 2005, the Office of the Secretary (OST) published a final rule on “Reports by Carriers on Incidents Involving Animals During Air Transport.” 70 FR 7392. This OST rule requires air carriers that provide scheduled passenger air transportation to submit a monthly report to DOT's ACPD on any incident involving the loss, injury or death of an animal during air transportation. It also clarifies that the report on incidents involving the loss, injury, or death of an animal during air transport shall be made in the form and manner set forth in reporting directives issued by the Deputy General Counsel.

On February 25, 2005, as promised in the OST rulemaking, a reporting directive issued by the Deputy General Counsel setting forth the form and manner in which carriers must submit the required data on loss, injury, or death of an animal during air transport was published in the Federal Register. 70 FR 9217. At the time of publication of both the final rule and the reporting directive, the Department had not as yet obtained an OMB control number for its information collection request and consequently had not established a specific compliance date on which carriers must begin to submit monthly reports on incidents involving the loss, injury, or death of an animal during air transport.

OMB regulations implementing provisions of the Paperwork Reduction Act of 1995 require that interested members of the public and affected agencies have an opportunity to comment on information collection and recordkeeping activities and specify that no person is required to respond to an information collection unless it displays a valid OMB control number. In accordance with the Paperwork Reduction Act of 1995, OST has received OMB approval of the following ICR:

OMB Control Number: 2105-0552.

Title: Reports by Carriers on Incidents Involving Animals During Air Transport.

This information collection approval was granted by OMB on March 29, 2005, and expires on March 31, 2008. Because OMB approved the information collection after publication of the February 14, 2005, final rule and the February 25, 2005, reporting directive, we are now announcing the OMB approval and establishing Wednesday, June 15, 2005, as the date on which carriers must begin to submit monthly reports on incidents involving the loss, injury, or death of an animal during air transport to DOT's ACPD.

The June 15, 2005, report which would be the first report required of carriers, must cover incidents that occurred from May 1, 2005, to May 31, 2005. Carriers must submit all subsequent reports within 15 days of the end of the month as required under 14 CFR 234.13(a). If the 15th day of a month should fall on a Saturday, Sunday or Federal holiday, then the carrier may provide the report on the next work day.

Issued this 5th day of April, 2005, in Washington, DC.
Michael Robinson,
Departmental Information Collection Clearance Officer, U.S. Department of Transportation.

[FR Doc. 05-7185 Filed 4-8-05; 8:45 am]

BILLING CODE 4910-62-P